NUCLEAR REGULATORY COMMISSION

[NRC-2015-0212]

Perry Nuclear Power Plant, Unit 1; Consideration of Approval of Transfer of License and Conforming Amendment; Correction

AGENCY: Nuclear Regulatory Commission.

ACTION: Application for direct transfer of license; opportunity to comment, request a hearing, and petition for leave to intervene; order; correction.

SUMMARY: The U.S. Nuclear Regulatory Commission (NRC) is correcting a notice that was published in the Federal Register (FR) on September 16, 2015, regarding FirstEnergy Nuclear Operating Company's June 30, 2015, application for a direct transfer of the leased interests in NPF-58 for Perry Nuclear Power Plant, Unit 1, from the current holder, the Ohio Edison Company, to FirstEnergy Nuclear Generation, LLC. This action is necessary to correct the number of days for the deadline for submitting a petition for intervention identified in Attachment 1, “General Target Schedule for Processing and Resolving Requests for Access to Sensitive Unclassified Non-Safeguards Information in this Proceeding,” of the September 16, 2015, notice.

DATES: The correction is effective September 29, 2015.

ADDRESSES: Please refer to Docket ID NRC-2015-0212 when contacting the NRC about the availability of information regarding this document. You may obtain publicly-available information related to this document using any of the following methods:

• Federal Rulemaking Web site: Go to http://www.regulations.gov and search for Docket ID NRC-2015-0212. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The Application for Order Consenting to Transfer of Licenses and Conforming License Amendment is available in ADAMS under Accession No. ML15181A366.

• NRC's PDR: You may examine and purchase copies of public documents at the NRC's PDR, Room O1-F21, One White Flint North, 11555 Rockville Pike, Rockville, Maryland 20852.

FOR FURTHER INFORMATION CONTACT: Kimberly Green, U.S. Nuclear Regulatory Commission, Washington, DC 20555-0001; telephone: 301-415-1627, email: Kimberly.Green@nrc.gov.

SUPPLEMENTARY INFORMATION: In the Federal Register on September 16, 2015, in FR Doc. 2015-23183, on page 55660, in Attachment 1, first column, third line, correct “60” to read “20.”

Dated at Rockville, Maryland, this 23rd day of September, 2015.
For the Nuclear Regulatory Commission.
Annette L. Vietti-Cook,
Secretary of the Commission.

[FR Doc. 2015-24646 Filed 9-28-15; 8:45 am]

BILLING CODE 7590-01-P